DEPARTMENT OF THE INTERIOR

National Park Service

[NPS-SER-CONG-17094; PPSECONGS0/PPMPSPD1Z.YM00000]

Establishment of a New Fee Area at Congaree National Park

AGENCY: National Park Service, Interior.

ACTION: Notice.

SUMMARY: Congaree National Park in South Carolina plans to collect expanded amenity recreation fees at the Longleaf Campground and Bluff Campground beginning in early 2015. Revenue will be used to cover the cost of collections at the campground and for deferred maintenance in the park.

DATES: We will begin collecting fees on July 28, 2015.

FOR FURTHER INFORMATION CONTACT: Lauren Gurniewicz, Chief of Interpretation, Congaree National Park, 100 National Park Road, Hopkins, SC 29061; telephone (803) 647-3969; or by email at lauren_gurniewicz@nps.gov.

SUPPLEMENTARY INFORMATION: This notice is to comply with Section 804 of the Federal Lands Recration Enhancement Act of 2004 (Pub.L. 108-447). The act requires agencies to give the public 6 months advance notice of the establishment of a new recreation fee area.

Rates at Longleaf Campground will be $10 per night for an individual tent only site with no hook-ups; $20 per night for a group tent only site with no hook-ups. Rates at Bluff Campground will be $5 per night for an individual tent only site with no hook-ups. These fees were determined through a comparability study of similar sites in the area at Federal, state, and private recreation areas and will only be charged at the Longleaf and Bluff campgrounds. In accordance with NPS public involvement guidelines, the park engaged numerous individuals, organizations, and local, state, and Federal government representatives while planning for the implementation of this fee.

Dated: November 21, 2014.
Lena McDowall,
Associate Director, Business Services.

[FR Doc. 2015-01678 Filed 1-28-15; 8:45 am]

BILLING CODE 4310-JD-P